NUCLEAR REGULATORY COMMISSION

Docket No. 50-354 [NRC-2009-0391]

PSEG Nuclear LLC, Hope Creek Generating Station; Notice of Issuance of Renewed Facility Operating License No. NPF-57 for an Additional 20-Year Period; Record of Decision

Notice is hereby given that the U.S. Nuclear Regulatory Commission (the Commission) has issued Renewed Facility Operating License No. NPF-57 to PSEG Nuclear LLC (licensee), the operator of the Hope Creek Generating Station (HCGS). Renewed Facility Operating License No. NPF-57 authorizes operation of HCGS by the licensee at reactor core power levels not in excess of 3,840 megawatts thermal in accordance with the provisions of the HCGS renewed license and its technical specifications.

The notice also serves as the record of decision for the Renewal of Facility Operating License No. NPF-57, consistent with Title 10 of the Code of Federal Regulations Section 51.103 (10 CFR 51.103). As discussed in the final supplemental environmental impact statement (FSEIS) for HCGS and Salem Nuclear Generating Station (Salem), Units 1 and 2, dated March 2011, the Commission has considered a range of reasonable alternatives that included coal fired generation, natural gas combined-cycle generation, combined alternative, and the no-action alternative. The factors considered in the record of decision can be found in the FSEIS published in March 2011 as NUREG-1437, “Generic Environmental Impact Statement for License Renewal of Nuclear Power Plants, Supplement 45, Regarding Hope Creek Generating Station and Salem Nuclear Generating Station, Units 1 and 2.”

HCGS is a boiling water reactor located in Lower Alloways Creek Township, Salem County, New Jersey. The application for the renewed license complied with the standards and requirements of the Atomic Energy Act of 1954, as amended (the Act), and the Commission's regulations. As required by the Act and the Commission's regulations in 10 CFR Chapter I, the Commission has made appropriate findings, which are set forth in the license. Prior public notice of the action involving the proposed issuance of the renewed license and of an opportunity for a hearing regarding the proposed issuance of the renewed license was published in the Federal Register on October 23, 2009 (74 FR 54856).

For further details with respect to this action, see: (1) PSEG Nuclear LLC's license renewal application for Hope Creek Generating Station dated August 18, 2009, as supplemented by letters dated through May 19, 2011; (2) the Commission's safety evaluation report (NUREG-2102), published in June 2011; (3) the licensee's updated safety analysis report; and (4) the Commission's final environmental impact statement (NUREG-1437, Supplement 45), for the Hope Creek Generating Station and Salem Nuclear Generating Station, Units 1 and 2, published in March 2011. These documents are available at the NRC's Public Document Room, One White Flint North, 11555 Rockville Pike, Rockville, Maryland 20852, and can be viewed from the NRC Public Electronic Reading Room at http://www.nrc.gov/reading-rm/adams.html.

Copies of renewed Facility Operating License No. NPF-57 (ADAMS Accession No. ML11116A197) may be obtained by writing to the U.S. Nuclear Regulatory Commission, Washington, DC 20555-0001, Attention: Director, Division of License Renewal. Copies of the Hope Creek Generating Station safety evaluation report (NUREG-2102) and the final environmental impact statement (NUREG-1437, Supplement 45) may be purchased from the National Technical Information Service, U.S. Department of Commerce, Springfield, VA 22161 (http://www.ntis.gov), 703-605-6000, or Attention: Superintendent of Documents, U.S. Government Printing Office, P.O. Box 371954, Pittsburgh, PA 15250-7954 (http://www.gpoaccess.gov), 202-512-1800. All orders should clearly identify the NRC publication number and the requestor's Government Printing Office deposit account number or VISA or MasterCard number and expiration date.

Dated at Rockville, Maryland, this 20th day of July 2011.
For the Nuclear Regulatory Commission.
Brian E. Holian,
Director, Division of License Renewal, Office of Nuclear Reactor Regulation.

[FR Doc. 2011-19096 Filed 7-27-11; 8:45 am]

BILLING CODE 7590-01-P